DEPARTMENT OF JUSTICE

[OMB Number 1122-0017]

Agency Information Collection Activities; Proposed eCollection eComments Requested; Extension of a Previously Approved Collection; Semi-Annual Progress Report for the Tribal Sexual Assault Services Program

AGENCY: Office on Violence Against Women, Department of Justice.

ACTION: 60-Day notice.

SUMMARY: The Department of Justice (DOJ), Office on Violence Against Women, will be submitting the following information collection request to the Office of Management and Budget (OMB) for review and approval in accordance with the Paperwork Reduction Act of 1995.

DATES: Comments are encouraged and will be accepted for 60 days until July 14, 2023.

FOR FURTHER INFORMATION CONTACT: If you have additional comments especially on the estimated public burden or associated response time, suggestions, or need a copy of the proposed information collection instrument with instructions or additional information, please contact Cathy Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Authorized by 34 U.S.C. 12291(b)(11), the primary purpose of the OVW Technical Assistance Program is to provide direct assistance to grantees and their subgrantees to enhance the success of local projects they are implementing with VAWA grant funds. In addition, OVW is focused on building the capacity of criminal justice and victim services organizations to respond effectively to sexual assault, domestic violence, dating violence, and stalking and to foster partnerships between organizations that have not traditionally worked together to address violence against women, such as faith- and community-based organizations.

Overview of This Information Collection

1. Type of Information Collection: Extension of a previously approved collection.

2. The Title of the Form/Collection: Semi-Annual Progress Report for the Tribal Sexual Assault Services Program.

3. The agency form number, if any, and the applicable component of the Department sponsoring the collection: Semi-Annual Progress Report for the Tribal Sexual Assault Services Program (1122-0017).

4. Affected public who will be asked or required to respond, as well as the obligation to respond: Affected Public: State, local and tribal governments. Obligation to respond is required to obtain/retain a benefit.

5. An estimate of the total number of respondents, frequency and the amount of time estimated for an average respondent to respond: An estimated 100 respondents will respond to this collection twice a year. The time per response is 1 hour.

6. An estimate of the total public burden (in hours) associated with the collection: The estimated public burden is 200 hours.

7. An estimate of the total annual cost burden associated with the collection: The annual cost burden associated with this collection is $0.

Total Burden Hours
Activity | Number of respondents | Frequency | Total annual responses | Time per response (hours) | Total annual burden (hours)
Semi-Annual Progress Report for the Tribal Sexual Assault Serv. Program | 100 | 2 | 200 | 1 | 200
Unduplicated Totals | 100 |  | 200 |  | 200

If additional information is required contact: John R. Carlson, Department Clearance Officer, United States Department of Justice, Justice Management Division, Policy and Planning Staff, Two Constitution Square, 145 N Street NE, 4W-218, Washington, DC.

Dated: May 8, 2023.
John Carlson,
Department Clearance Officer for PRA, U.S. Department of Justice.

[FR Doc. 2023-10238 Filed 5-12-23; 8:45 am]

BILLING CODE 4410-FX-P